DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Albuquerque, NM, Chicago, IL, and Tempe, AZ. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before April 4, 2016.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information on each project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Albuquerque Rapid Transit, Albuquerque, NM. Project sponsor: The City of Albuquerque. Project description: The proposed project would provide bus rapid transit service from the Unser Transit Center on the west side of Albuquerque to Tramway Boulevard on the east side, an overall length of approximately 14 miles, and construct exclusive lanes for rapid vehicles from Coors Boulevard to Louisiana Boulevard, a distance of approximately 8.75 miles. The project would also construct 20 stations, including 15 median stations and five curbside platforms. Final agency actions: No use determination of Section 4(f) resources; Section 106 finding of no adverse effect; project-level air quality conformity; and determination of documented categorical exclusion. Supporting documentation: Documented categorical exclusion pursuant to 23 CFR 771.118(d), dated August 26, 2015.

2. Project name and location: Lawrence to Bryn Mawr Modernization Project, Chicago, IL. Project sponsor: Chicago Transit Authority. Project description: The proposed project would replace the Lawrence, Argyle, Berwyn, and Bryn Mawr stations and approximately 1.3 miles of rail transit structural infrastructure on the Red and Purple lines in the Uptown and Edgewater community areas of Chicago. Final agency actions: Section 4(f) determination; a Section 106 Memorandum of Agreement, dated September 28, 2015; project-level air quality conformity; and Finding of No Significant Impact, dated October 1, 2015. Supporting documentation: Environmental Assessment, dated April 29, 2015.

3. Project name and location: Red-Purple Bypass Project, Chicago, IL. Project sponsor: Chicago Transit Authority. Project description: The proposed project would construct a fifth track bypass for the northbound Brown Line at Clark Junction, just north of Belmont station, and reconstruct approximately 0.3 miles of the mainline Red and Purple line tracks from Belmont station on the south to the stretch of track between Newport and Cornelia Avenues on the north. The bypass would provide a grade-separated junction allowing northbound Brown Line trains to cross unimpeded over and above north- and southbound Red Line tracks, as well as southbound Purple Line tracks, on a new aerial structure. Final agency actions: Section 4(f) determination; a Section 106 Memorandum of Agreement, dated September 28, 2015; project-level air quality conformity; and Finding of No Significant Impact, dated October 29, 2015. Supporting documentation: Environmental Assessment, dated May 19, 2015.

4. Project name and location: Tempe Streetcar, Tempe, AZ. Project sponsor: Valley Metro. Project description: The proposed project is an approximately three-mile long streetcar line that connects the emerging commercial district of Rio Salado Parkway along the Tempe Town Lake waterfront with Downtown Tempe and Arizona State University's main campus along Apache Boulevard to the Dorsey/Apache Boulevard light rail station. Final agency actions: No use determination of Section 4(f) resources; Section 106 finding of no adverse effect; project-level air quality conformity; and Finding of No Significant Impact, dated October 27, 2015. Supporting documentation: Environmental Assessment, dated July 2015.

Lucy Garliauskas,
Associate Administrator Planning and Environment.

[FR Doc. 2015-28319 Filed 11-5-15; 8:45 am]

BILLING CODE P